DEPARTMENT OF HEALTH AND HUMAN SERVICES

Health Resources and Services Administration

Agency Information Collection Activities: Submission to OMB for Review and Approval; Public Comment Request

ACTION: Notice.

SUMMARY: In compliance with section 3506(c)(2)(A) of the Paperwork Reduction Act of 1995 (44 U.S.C. Chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

Information Collection Request Title: HRSA Environmental Information and Documentation (EID) (OMB No. 0915-0324)—Revision

Abstract: HRSA is requesting an extension of the approval for the Environmental Information and Documentation (EID) checklist, which consists of information that the agency is required to obtain to comply with the National Environmental Policy Act of 1969 (NEPA). NEPA establishes the federal government's national policy for protection of the environment. HRSA has developed the EID for applicants of funding that would potentially impact the environment and to ensure that their decision-making processes are consistent with NEPA. Applicants must provide information and assurance of compliance with NEPA on the EID checklist. The estimated annual burden is as follows:

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

The annual estimate of burden is as follows:

Form name | Number of respondents | Responses per respondent | Total responses | Hours per response | Total burden hours
NEPA EID Checklist | 1,847 | 1 | 1,847 | .75 | 1,385.25
Total | 1,847 | 1 | 1,847 | .75 | 1,385.25

ADDRESSES: Submit your comments to the desk officer for HRSA, either by email to OIRA_submission@omb.eop.gov or by fax to 202-395-5806. Please direct all correspondence to the “attention of the desk officer for HRSA.”

Deadline: Comments on this ICR should be received within 30 days of this notice.

Dated: December 28, 2012.
Bahar Niakan,
Director, Division of Policy and Information Coordination.

[FR Doc. 2013-00029 Filed 1-4-13; 8:45 am]

BILLING CODE 4165-15-P